ENVIRONMENTAL PROTECTION AGENCY

40 CFR Parts 52 and 81

[R09-OAR-2005-AZ-0003; FRL-7960-9]

Approval and Promulgation of Implementation Plans and Designation of Areas for Air Quality Planning Purposes; Arizona; Correction of Redesignation of Phoenix To Attainment for the Carbon Monoxide Standard

AGENCY: Environmental Protection Agency (EPA).

ACTION: Proposed rule.

SUMMARY: EPA is proposing to amend the regulations that identify revisions to the Arizona state implementation plan and the regulations that identify area designations within Arizona. In so doing, EPA is acting pursuant to the Agency's authority under the Clean Air Act to correct errors made in approving plan revisions and area redesignations. The purpose of this proposed rule is to correct an error in the adoption and submittal date shown for a revision to the implementation plan that EPA recently approved and to correct a transcription error in, and to make a more general correction to, the boundary description of the metropolitan Phoenix carbon monoxide area that EPA recently redesignated to attainment.

DATES: Any comments on this proposal must arrive by October 6, 2005.

ADDRESSES: Submit comments, identified by docket number R09-OAR-2005-AZ-0003 by one of the following methods:

1. Agency Web site: http://docket.epa.gov/rmepub/. EPA prefers receiving comments through this electronic public docket and comment system. Follow the on-line instructions to submit comments.

2. Federal eRulemaking Portal: http://www.regulations.gov. Follow the on-line instructions.

3. E-mail: tax.wienke@epa.gov.

4. Mail or deliver: Wienke Tax, Office of Air Planning (AIR-2), U.S. Environmental Protection Agency, Region 9, 75 Hawthorne Street, San Francisco, CA 94105-3901.

Instructions: All comments will be included in the public docket without change and may be made available online at http://docket.epa.gov/rmepub/, including any personal information provided, unless the comment includes Confidential Business Information (CBI) or other information whose disclosure is restricted by statute. Information that you consider CBI or otherwise protected should be clearly identified as such and should not be submitted through the agency Web site, eRulemaking portal, or e-mail. The agency Web site and eRulemaking portal are “anonymous access” systems, and EPA will not know your identify or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/rmepub and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Wienke Tax, Air Planning Office (AIR-2), U.S. Environmental Protection Agency, Region 9, (520) 622-1622 or e-mail to tax.wienke@epa.gov, or check http://www.epa.gov/region09/air.

SUPPLEMENTARY INFORMATION: This proposal addresses the correction of a final rule EPA promulgated on March 9, 2005 (at 70 FR 11553) approving two submittals of revisions to the Arizona state implementation plan, redesignating the metropolitan Phoenix carbon monoxide area to attainment, and redesignating the boundary of the metropolitan Phoenix carbon monoxide area to exclude the Gila River Indian Reservation. In the Rules section of this Federal Register, we are taking direct final action to correct the State of Arizona's adoption and submittal date for one of the plan revisions that we approved in our March 9, 2005 final rule, to correct a transcription error in the description of the boundary of the metropolitan Phoenix carbon monoxide area, and to correct the description of the boundary of the metropolitan Phoenix carbon monoxide area promulgated in our March 9, 2005 final rule without prior proposal because we believe this correction action is not controversial. If we receive adverse comments, however, we will publish a timely withdrawal of the direct final rule and address the comments in subsequent action based on this proposed rule. We do not plan to open a second comment period, so anyone interested in commenting should do so at this time. If we do not receive comments, no further activity is planned. For further information, please see the direct final action.

Dated: July 15, 2005.
Laura Yoshii,
Deputy Regional Administrator, Region IX.

[FR Doc. 05-17540 Filed 9-2-05; 8:45 am]

BILLING CODE 6560-50-P